ENVIRONMENTAL PROTECTION AGENCY

[FRL-7162-4]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in General Electric Company v. United States Environmental Protection Agency, No. 99-1353 (D.C. Circuit). This case concerns the National Emission Standard for Hazardous Air Pollutants for Source Categories: Generic MACT Standards, 40 CFR part 63, subpart YY, published at 64 FR 34921 on June 29, 1999. The proposed settlement agreement was lodged with the United States Court of Appeals for the District of Columbia Circuit on March 13, 2002.

DATES: Written comments on the proposed settlement agreement must be received by April 22, 2002.

ADDRESSES: Written comments should be sent to Timothy D. Backstrom, Air and Radiation Law Office (2344A), Office of General Counsel, U.S. Environmental Protection Agency, 1200 Pennsylvania Avenue, NW., Washington, DC 20460. A copy of the proposed settlement agreement is available from Phyllis J. Cochran, (202) 564-7606. A copy of the proposed settlement agreement was also lodged in the case with the Clerk of the United States Court of Appeals for the District of Columbia Circuit on March 13, 2002.

SUPPLEMENTARY INFORMATION: EPA promulgated the National Emission Standard for Hazardous Air Pollutants for Source Categories: Generic MACT Standards, 40 CFR part 63, subpart YY, on June 29, 1999 (64 FR 34921). Thereafter Petitioner the General Electric Company (“GE”) filed a timely petition for review, citing an issue concerning the recordkeeping provision in 40 CFR 63.1109(c). Thereafter, GE raised additional issues pertaining to the definition of “process vent” in 40 CFR 63.1101, which EPA concluded could only be properly resolved in conjunction with related issues being considered with respect to some other MACT standards. The parties have now reached agreement on appropriate revisions to each of these provisions, and on some additional minor corrections as well.

The settlement requires the EPA Administrator to sign a proposed rule incorporating these changes no later than three months after the date the settlement was signed by counsel for the parties. Because EPA believes the proposed amendments are not controversial and are unlikely to elicit adverse comment, and because relatively little time remains before the compliance date for the affected standards, EPA expects to utilize a direct final rule, which will become final 60 days after publication if no adverse comments are received.

For a period of thirty (30) days following the date of publication of this notice, EPA will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: March 14, 2002.
Richard B. Ossias,
Acting Associate General Counsel, Air and Radiation Law Office.

[FR Doc. 02-6999 Filed 3-21-02; 8:45 am]

BILLING CODE 6560-50-P